INTERNATIONAL TRADE COMMISSION

[Investigation No. 701-TA-270 (Second Review)]

Brass Sheet and Strip From France

AGENCY: United States International Trade Commission.

ACTION: Termination of review.

SUMMARY: On March 2, 2006, the Department of Commerce published notice in the Federal Register of a negative final determination of the likelihood of continuation or recurrence of a countervailable subsidy in connection with the subject five-year review on brass sheet and strip from France (71 FR 10651). Accordingly, pursuant to section 751(c) of the Tariff Act of 1930 (19 U.S.C. 1675(c)), the five-year review of the countervailing duty order concerning brass sheet and strip from France (investigation No. 701-TA-270 (Second Review)) is terminated.

DATES: Effective Date: March 2, 2006.

FOR FURTHER INFORMATION CONTACT: Vincent Honnold (202-205-3314), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

Authority: This five-year review is being terminated under authority of title VII of the Tariff Act of 1930; this notice is published pursuant to section 207.69 of the Commission's rules (19 CFR 207.69).

Issued: March 6, 2006.
By order of the Commission.
Marilyn R. Abbott,
Secretary to the Commission.

[FR Doc. E6-3473 Filed 3-9-06; 8:45 am]

BILLING CODE 7020-02-P